NATIONAL SCIENCE FOUNDATION

Notice of Meeting

In accordance with the Federal Advisory Committee Act (Pub. L. 92-463, as amended), the National Science Foundation announces the following meeting:

Name: Advisory Committee for Cyberinfrastructure (#10719).

Date/Time: June 25, 2001, 12 pm-3 pm.

Place: Room 320, National Science Foundation, 4201 Wilson Blvd., Arlington, VA.

Type of Meeting: Open teleconference Meeting. Persons wishing to attend the meeting at NSF should contact Richard Hilderbrandt to arrange for a visitor's pass.

Contact Person: Dr. Richard Hilderbrandt, Program Director, Division of Advanced Computational Infrastructure and Research, Suite 1122, National Science Foundation, 4201 Wilson Boulevard, Arlington, VA 22230, Tel: (703) 292-7093, e-mail: rhilderb@nsf.gov.

Purpose of Meeting: To develop a plan for the preparation of a report to the National Science Foundation concerning the broad topic of advanced cyberinfrastructure and the evaluation of the existing Partnerships for Advanced Computational Infrastructure.

Agenda: Tentative.

Noon—Gathering and review of agenda for meeting.

12:15 Sharing of developments since last meeting and further clarification of charge and approach. Summary of new material on worksite.

12:30 Sub-committee activities.

1:15 Develop interview list and process.

1:45 Discussion of overall flowchart of process.

2:15 Preliminary discussion of outline/structure of report.

2:45 Next steps and next meeting.

3:00 Adjourn.

Dated: June 6, 2001.
Susanne Bolton,
Committee Management Officer.

[FR Doc. 01-14588 Filed 6-8-01; 8:45 am]

BILLING CODE 7555-01-Mst